NUCLEAR REGULATORY COMMISSION

Sunshine Act Meeting

DATES: Weeks of January 14, 21, 28, February 4, 11, 18, 2002.

Place: Commissioners' Conference Room, 11555 Rockville Pike, Rockville, Maryland.

Status: Public and Closed.

Matters to be Considered:

Week of January 14, 2002

Tuesday, January 15, 2002

9:30 a.m.

Briefing on Status of Nuclear Materials Safety (Public Meeting) (Contact: Claudia Seelig, 301-415-7243)

This meeting will be webcast live at the Web address— www.nrc.gov.

Wednesday, January 16, 2002

9:30 a.m.

Discussion of Security Issues (Closed—Ex. 1)

Week of January 21, 2002—Tentative

Wednesday, January 23, 2002

9:30 a.m.

Discussion of Intragovernmental Issues (Closed—Ex. 9)

Week of January 28, 2002—Tentative

Tuesday, January 29, 2002

9:30 a.m.

Briefing on Status of Nuclear Reactor Safety (Public Meeting) (Contact: Mike Case, 301-415-1134)

This meeting will be webcast live at the Web address— www.nrc.gov.

Wednesday, January 30, 2002

9:25 a.m.

Affirmation Session (Public Meeting) (If needed)

9:30 a.m.

Briefing on Status of Office of the Chief Information Officer (OCIO) Programs, Performance, and Plans (Public Meeting) (Contact: Jackie Silber, 301-415-7330)

This meeting will be webcast live at the Web address— www.nrc.gov.

2 p.m.

Discussion of Intragovernmental Issues (Closed—Ex. 1 & 9)

Week of February 4, 2002—Tentative

Wednesday, February 6, 2002

9:25 a.m.

Affirmation Session (Public Meeting) (If needed)

9:30 a.m.

Briefing on Equal Employment Opportunity (EEO) Program (Public Meeting) (Contact: Irene Little, 301-415-7380)

Week of February 11, 2002—Tentative

There are no meetings scheduled for the Week of February 11, 2002.

Week of February 18, 2002—Tentative

Tuesday, February 19, 2002

2 p.m.

Meeting with the Advisory Committee on the Medical Uses of Isotopes (ACMUI) (Public Meeting) (Contact: Angela Williamson, 301-415-5030)

This meeting will be webcast live at the Web address— www.nrc.gov.

Wednesday, February 20, 2002

2:55 p.m.

Affirmation Session (Public Meeting) (If needed)

3 p.m.

Briefing on Status of Nuclear Waste Safety (Public Meeting) (Contact: Claudia Seelig, 301-415-7243)

This meeting will be webcast live at the Web address— www.nrc.gov.

*-The schedule for Commission meetings is subject to change on short notice. To verify the status of meetings call (recording)—(301) 415-1292. Contact person for more information: David Louis Gamberoni (301) 415-1651.

* * * * *

Additional Information:

By a vote of 5-0 on January 7 and 8, the Commission determined pursuant to U.S.C. 552b(e) and § 9.107(a) of the Commission's rules that “Discussion of Intragovernmental and Security Issues (Closed—Ex. 1 & 9),” be held on January 9, 2002, and on less than one week's notice to the public.

By a vote of 5-0 on January 8 and 9, the Commission determined pursuant to U.S.C. 552b(e) and § 9.107(a) of the Commission's rules that “Discussion of Security Issues (Closed—Ex. 1),” be held on January 16, 2002, and on less than one week's notice to the public.

* * * * *

The NRC Commission Meeting Schedule can be found on the Internet at: www.nrc.gov.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 10, 2002.
David Louis Gamberoni,
Technical Coordinator, Office of the Secretary.

[FR Doc. 02-1069 Filed 1-11-02; 10:58 am]

BILLING CODE 7590-01-M